DEPARTMENT OF DEFENSE

GENERAL SERVICES ADMINISTRATION

NATIONAL AERONAUTICS AND SPACE ADMINISTRATION

[OMB Control No. 9000-0205; Docket No. 2023-0053; Sequence No. 11]

Information Collection; Implementation of Federal Acquisition Supply Chain Security Act (FASCSA) Orders

AGENCY: Department of Defense (DOD), General Services Administration (GSA), and National Aeronautics and Space Administration (NASA).

ACTION: Notice and request for comments.

SUMMARY: DoD, GSA, and NASA invite public comment on a proposed emergency information collection that will be submitted to the Office of Management and Budget (OMB) for clearance, pursuant to the Paperwork Reduction Act of 1995. Comments are invited on: whether the proposed collection of information is necessary for proper performance of the functions of Federal Government acquisitions, including whether the information will have practical utility; the accuracy of the estimate of the burden of the proposed information collection; ways to enhance the quality, utility, and clarity of the information to be collected; and; ways to minimize the burden of the information collection on respondents, including the use of automated collection techniques or other forms of information technology.

DATES: DoD, GSA, and NASA will consider all comments regarding this emergency information collection received by November 17, 2023.

ADDRESSES: DoD, GSA, and NASA invite interested persons to submit comments on this emergency information collection through https://www.regulations.gov. Follow the instructions on the website. This website provides the ability to type short comments directly into the comment field or attach a file for lengthier comments. If there are difficulties submitting comments, contact the GSA Regulatory Secretariat Division at 202-501-4755 or GSARegSec@gsa.gov.

Instructions: All items submitted must cite OMB Control No. 9000-0205, Implementation of Federal Acquisition Supply Chain Security Act (FASCSA) Orders. Comments received generally will be posted without change to https://www.regulations.gov, including any personal and/or business confidential information provided. To confirm receipt of your comment(s), please check www.regulations.gov, approximately two-to-three days after submission to verify posting.

FOR FURTHER INFORMATION CONTACT: Marissa Ryba, Procurement Analyst, at telephone 314-586-1280, or marissa.ryba@gsa.gov.

SUPPLEMENTARY INFORMATION: This proposed emergency information collection request contains:

A. OMB Control Number, Title, and Any Associated Form(s)

9000-0205, Implementation of Federal Acquisition Supply Chain Security Act (FASCSA) Orders

B. Need and Uses

The DoD, GSA, and NASA provided notification of the applicability of the Paperwork Reduction Act. Agency and public comments were solicited through an interim rule under FAR Case 2020-011, Implementation of FASCSA Orders. This clearance covers the information that offerors/contractors must submit to comply with the following interim Federal Acquisition Regulation (FAR) rule requirements:

a. FAR 52.204-29, Federal Acquisition Supply Chain Security Act Orders—Representation and Disclosures. This provision prohibits contractors from providing or using as part of the performance of the contract any covered article, or any products or services produced or provided by a source, if the covered article or the source is subject to an applicable FASCSA order identified in the clause at FAR 52.204-30(b)(1).

By submitting an offer, offerors are representing compliance with the prohibition. If an offeror cannot represent compliance with the prohibition, then the offeror must disclose the following information in accordance with 52.204-29(e):

(1) Name of the product or service provided to the Government.

(2) Name of the covered article or source subject to a FASCA order.

(3) If applicable, name of the vendor, including the Commercial and Government Entity code and unique entity identifier (if known), that supplied the covered article or the product or service to the Offeror.

(4) Brand.

(5) Model number (original equipment manufacturer number, manufacturer part number, or wholesaler number).

(6) Item description.

(7) Reason why the applicable covered article or the product or service is being provided or used.

b. FAR 52.204-30, Federal Acquisition Supply Chain Security Act Orders—Prohibition. This clause requires contractors to provide a report to the Government within 3 business days if the contractor identifies that the contractor or any-tier subcontractor, delivered or used a covered article or product or service subject to a FASCSA order. The report requires the following information:

(A) Contract number.

(B) Order number(s), if applicable.

(C) Name of the product or service provided to the Government or used during performance of the contract.

(D) Name of the covered article or source subject to a FASCSA order.

(E) If applicable, name of the vendor, including the Commercial and Government Entity code and unique entity identifier (if known), that supplied the covered article or the product or service to the Contractor.

(F) Brand.

(G) Model number (original equipment manufacturer number, manufacturer part number, or wholesaler number).

(H) Item description.

(I) Any readily available information about mitigation actions undertaken or recommended.

The contractor must also submit additional information within 10 business days of submitting the first report identifying any further available information about mitigation actions undertaken or recommended. Additionally, the contractor shall describe the efforts it undertook to prevent submission or use and any additional efforts to prevent future submission or use of the covered article or the product or service produced or provided by a source subject to an applicable FASCSA order.

Information collected under the provision FAR 52.204-29 will be used by the government to determine whether to seek a waiver from a FASCSA order issued under the authority of the Federal Acquisition Supply Chain Security Act of 2018.

Information collected under the clause at FAR 52.204-30 will consist of reports from contractors who have identified, post-award, that a covered article or product or service produced or provided by a source subject to a FASCSA order was provided or used as part of the performance of the contract to the Government during contract performance.

C. Annual Burden

Respondents/Recordkeepers: 6,113.

Total Annual Responses: 1.

Total Burden Hours: 12,226.

Obtaining Copies: Requesters may obtain a copy of the information collection documents from the GSA Regulatory Secretariat Division by calling 202-501-4755 or emailing GSARegSec@gsa.gov. Please cite OMB Control No. 9000-0205, Implementation of Federal Acquisition Supply Chain Security Act (FASCSA) Orders.

Janet Fry,
Director, Federal Acquisition Policy Division, Office of Government-wide Acquisition Policy, Office of Acquisition Policy, Office of Government-wide Policy.

[FR Doc. 2023-22940 Filed 10-17-23; 8:45 am]

BILLING CODE 6820-EP-P